ENVIRONMENTAL PROTECTION AGENCY

[EPA-HQ-OAR-2024-0274; FRL-12650-01-OMS]

Agency Information Collection Activities; Submission to the Office of Management and Budget for Review and Approval; Comment Request; NESHAP for Group IV Polymers and Resins (Renewal)

AGENCY: Environmental Protection Agency (EPA).

ACTION: Notice.

SUMMARY: The Environmental Protection Agency (EPA) has submitted an information collection request (ICR), NESHAP for Group IV Polymers and Resins (EPA ICR Number 2457.05, OMB Control Number 2060-0682) to the Office of Management and Budget (OMB) for review and approval in accordance with the Paperwork Reduction Act. This is a proposed extension of the ICR, which is currently approved through February 28, 2025. Public comments were previously requested via the Federal Register on August 6, 2024 during a 60-day comment period. This notice allows for an additional 30 days for public comments.

DATES: Comments may be submitted on or before March 31, 2025.

ADDRESSES: Submit your comments, referencing Docket ID Number EPA-HQ-OAR-2024-0274 to EPA online using https://www.regulations.gov/ (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on August 6, 2024 during a 60-day comment period (89 FR 63933). This notice allows for an additional 30 days for public comments. Supporting documents which explain in detail the information that the EPA will be collecting are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Group IV Polymers and Resins (40 CFR part 63, subpart JJJ) were proposed on March 29, 1995; promulgated on September 12, 1996; and most-recently amended on March 27, 2014. These regulations apply to each new and existing thermoplastic product process units (TPPU) and associated equipment that produce the subset of polymers and resins known as “Group IV Polymers and Resins” that is a major source of organic hazardous air pollutants (HAPs). Group IV polymers and resins include the following source categories: Acrylonitrile Butadiene Styrene (ABS), Methyl Methacrylate Acrylonitrile Butadiene Styrene (MABS), Methyl Methacrylate Butadiene Styrene (MABS), Nitrile Resin, Polyethylene Terephthalate (PET), Polystyrene (PS), and Styrene Acrylonitrile (SAN). This information is being collected to assure compliance with 40 CFR part 63, subpart JJJ.

Form Numbers: None.

Respondents/affected entities: Each new and existing thermoplastic product process unit (TPPU) and associated equipment that produces the subset of polymers and resins known as “Group IV Polymers and Resins” that is a major source of organic hazardous air pollutants (HAPs).

Respondent's obligation to respond: Mandatory (40 CFR part 63, subpart JJJ).

Estimated number of respondents: 24 (total).

Frequency of response: Initially, occasionally, semiannually, and quarterly.

Total estimated burden: 141,000 hours (per year). Burden is defined at 5 CFR 1320.3(b).

Total estimated cost: $19,300,000 (per year), includes $10,300,000 annualized capital or operation & maintenance costs.

Changes in the estimates: There is no change in burden from the most recently approved ICR. This is due to two considerations. First, the regulations have not changed over the past three years and are not anticipated to change over the next three years. Second, the growth rate for this industry is very low or non-existent, so there is no significant change in the overall burden. There is an adjustment increase in the capital/startup or operation and maintenance (O&M) costs, which have been adjusted to reflect 2023 dollars using the CEPCI CE index.

Courtney Kerwin,
Director, Information Engagement Division.

[FR Doc. 2025-03266 Filed 2-27-25; 8:45 am]

BILLING CODE 6560-50-P